DEPARTMENT OF TRANSPORTATION

[Docket No. DOT-OST-2022-0082]

Request for Information; Thriving Communities Initiative

AGENCY: Office of the Secretary (OST), Department of Transportation (DOT).

ACTION: Request for information.

SUMMARY: The Bipartisan Infrastructure Law (BIL) enacted as the Infrastructure Investment and Jobs Act (IIJA) created several new programs at the US Department of Transportation (DOT) that allow local governments, non-profit organizations, tribal governments, and other political subdivisions of state or local governments to apply directly for DOT discretionary grant funding. In response to President Biden's Executive Orders, “Advancing Racial Equity and Support for Underserved Communities Through the Federal Government,” and “Tackling the Climate Crisis at Home and Abroad,” DOT has included criteria in its notices of funding opportunity to prioritize the needs of disadvantaged communities for many of these new programs. Through this Request for Information (RFI) for the newly created Thriving Communities Initiative, DOT is looking to gain information on the technical assistance, planning, and capacity building needs faced by disadvantaged communities that are seeking to advance local transportation projects within the existing Federal, state, and regional transportation planning and project delivery methods including to access innovative finance programs offered through DOT.

DATES: Comments are requested by August 26, 2022.

ADDRESSES: Comments should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments, see the Public Participation heading of the SUPPLEMENTARY INFORMATION section of this document. Note that all comments received will be posted without change to https://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78), or at https://www.transportation.gov/privacy.

Docket: For access to the docket to read background documents or comments received, visit https://www.regulations.gov or the street address listed above. Follow the online instructions for accessing the dockets.

FOR FURTHER INFORMATION CONTACT: For policy issues, please email ThrivingCommunities@dot.gov or contact Victor Austin at 202-366-2996. Office hours are from 8 a.m. to 5 p.m. EDT, Monday through Friday, except for Federal holidays.

SUPPLEMENTARY INFORMATION: For this notice, DOT defines technical assistance to include programs, processes, and resources that provide targeted support, knowledge, or expertise to a community, region, organization, or other beneficiary to help access and successfully deploy funding and build local capacity to develop, design, and deliver transportation plans and projects. DOT is interested in learning more about best practices in technical assistance delivery approaches from non-Federal providers and Federal agencies which disadvantaged communities feel have been successful in meeting their needs. DOT is also interested in the technical assistance challenges disadvantaged communities face or anticipate facing when seeking to access DOT-led technical assistance and capacity building opportunities.

The information gained through this RFI will assist DOT to implement the Thriving Communities Initiative and will inform technical assistance programs being coordinated through the Build America Bureau (Bureau) that advance capacity building for disadvantaged communities, including rural and tribal governments. DOT is assessing its current suite of technical assistance programs and seeks to identify emerging technical assistance needs and best practices in the delivery approaches offered by other Federal agencies and by non-Federal technical assistance and capacity building providers.

A Department goal in creating new technical assistance programs is to structure capacity building approaches that facilitate cross-sector coordination, build sustained capacity in local communities both within government and by other implementation partners, and foster multi-stakeholder engagement both in their delivery and outcomes. The RFI responses will inform work by the Bureau to develop and coordinate technical assistance programs that deliver improved results to communities. This includes enabling communities to accelerate project delivery, utilize innovative finance tools, and advance transportation projects that benefit disadvantaged communities, support the overall Thriving Communities Initiative, align with DOT's strategic priorities, and help to implement the Equity Action Plan.¹

¹ U.S. Department of Transportation, “FY2022-2026 Strategic Plan,” available at: https://www.transportation.gov/dot-strategic-plan. U.S. Department of Transportation, “Equity Action Plan” (January 2022), available at: https://www.transportation.gov/priorities/equity/actionplan.

Through this RFI, DOT requests information on the technical assistance, planning, and capacity building needs faced by disadvantaged communities seeking to advance transportation projects within existing Federal, state, and regional transportation planning and project delivery methods to inform the development of technical assistance and capacity building funded through the Thriving Communities Program (TCP), the Reconnecting Communities Pilot Program, and the Bureau. The Department is also interested in the technical assistance challenges disadvantaged communities face or anticipate facing when seeking to access innovative financing tools and Federal credit assistance programs, such as those provided through the Transportation Infrastructure Finance and Innovation Act (TIFIA) (https://www.transportation.gov/buildamerica/financing/tifia) or the Railroad Rehabilitation and Improvement Financing (RRIF) (https://www.transportation.gov/buildamerica/financing/rrif).

DOT is keenly interested in ways to leverage and synergize these technical assistance programs to provide a coordinated and seamless process for their delivery and for communities to access these resources. Each of these programs, including TCP, has a place-based focus and is designed to work across a range of DOT grant programs, transportation modes, and in support of urban, suburban, rural, and tribal communities.

Thriving Communities Initiative

The Consolidated Appropriations Act, 2022, provided $25 million to DOT to develop and implement technical assistance, planning, and capacity building to improve and foster thriving communities through transportation improvements through the Thriving Communities Initiative. This includes a new Thriving Communities Program by which DOT will utilize cooperative agreements with capacity building and technical assistance providers to support communities seeking to advance transformative, equitable, and climate-friendly infrastructure projects that benefit disadvantaged communities. Eligible applicants to provide this assistance include philanthropic entities, non-profit organizations, other Federal agencies, state or local governments and their agencies, Indian Tribes, or other technical assistance providers. The purpose of this assistance is to facilitate the planning and development of transportation and community revitalization activities supported by DOT under titles 23, 46, and 49, United States Code, that increase mobility, reduce pollution from transportation sources, expand affordable transportation options, facilitate efficient land use, preserve, or expand jobs, improve housing conditions, enhance connections to health care, education, and food security, or improve health outcomes. More information on the Thriving Communities Program is available at https://www.transportation.gov/grants/thriving-communities.

Reconnecting Communities Pilot Program

The Thriving Communities Initiative will also coordinate technical assistance funded through DOT's new Reconnecting Communities Pilot program. The Reconnecting Communities Pilot (RCP) program was created in BIL (IIJA) to reconnect communities by removing, retrofitting, or mitigating highways or other transportation facilities that create barriers to community connectivity. The program provides technical assistance and funding for planning and capital construction. The RCP Program provides DOT up to $30 million, cumulatively for FY 2022-FY 2026, to provide technical assistance and capacity building support for RCP applicants and grant recipients for transportation planning and capital investment projects. Recipients of FY 2022 Planning Grants and Capital Construction Grants will have access to RCP technical assistance based on the availability of DOT resources. DOT will prioritize technical assistance for recipients serving economically disadvantaged communities. For prospective RCP applicants who are not ready to apply for a Planning or Capital Construction Grant, DOT intends to provide technical assistance through learning academies starting in 2023. More information on the RCP program is available at: https://www.transportation.gov/grants/reconnecting-communities.

Build America Bureau

The TCP and RCP program technical assistance will be managed through the Bureau, which is also implementing several other technical assistance programs, some of which predate BIL. These include the Regional Infrastructure Accelerators, the Build America Center, the Rural and Tribal Assistance Pilot Program, and Asset Concession and Innovative Finance Assistance Programs. Some Bureau programs allow for direct grant agreements or procurements of technical assistance on behalf of recipients and/or providers. All of these programs are designed to improve transportation infrastructure financing and project delivery, develop new initiatives to facilitate public and private financing mechanisms, and analyze the cost-effectiveness of new and alternative approaches. Information on the Build America Bureau is available at: https://www.transportation.gov/buildamerica/.

RFI Definitions

The definitions for technical assistance, capacity building, planning, and disadvantaged communities are provided below and used for the purposes of this RFI.

Technical assistance: Programs, processes, and resources that provide targeted support, knowledge or expertise to a community, region, organization, or other beneficiary to help them access and utilize Federal funding to develop, analyze, design, and deliver transportation plans and projects.

Capacity building: Activities designed to improve the ability of an organization to design and implement the necessary technical, financial, business, data analysis, and management skills of grantees to access Federal funding, meet Federal requirements, undertake statewide and metropolitan long-range planning and programming activities, and implement other activities that broadly support project development and delivery. This includes developing long-term community capacity to sustain partnerships and engage non-governmental partners, leadership and workforce development, and program evaluation.

Planning: Efforts that support inclusive public participation and community engagement in developing and implementing a range of activities to identify, assess, and evaluate community needs, including but not limited to environmental reviews, data and mapping visualization, market and mobility studies, health and safety impacts, and climate vulnerability assessments. Planning assistance may involve developing or designing for a program or project that aligns with the goals of the DOT Strategic Plan: https://www.transportation.gov/dot-strategic-plan.

Disadvantaged Communities: Consistent with the Office of Management and Budget's Interim Guidance for the Justice40 Initiative, DOT's interim definition of Disadvantaged Communities includes (a) certain qualifying census tracts, (b) any tribal land, or (c) any territory or possession of the United States. DOT considers a census tract disadvantaged if it falls in the top 50% (75% for resilience) in at least four of the following categories—transportation access, health, environmental, economic, resilience, and equity disadvantage. For more information see https://www.transportation.gov/grants/dot-navigator/federal-tools-determine-disadvantaged-community-status.

Questions to the Public

The IIJA provides communities with an unprecedented opportunity to apply directly for Federal funding. Yet accessing these resources requires local communities to have considerable technical knowledge not only of the funding programs, but also of the larger transportation planning context including compliance with the National Environmental Policy Act and other Federal requirements, and the means to successfully secure matching funds, leverage other funding and finance resources and to meet the reporting and oversight obligations of Federal grant funding. For many disadvantaged and underserved communities, these requirements create substantial barriers.

The Department seeks to gather information on technical assistance, planning, and capacity building needs and challenges and identify potential models and best practices to further improve programs being coordinated by the Bureau through the Thriving Communities Initiative. Through these coordinated efforts, DOT seeks to foster local innovation, advance DOT's equity goals, and support cross-issue and cross-sector collaboration.

The following list of questions and topic areas are intended to guide the Department in this effort. Please feel free to answer any or all of the following questions.

Determining Technical Assistance and Capacity Building Needs

1. What are the greatest barriers to disadvantaged communities in pursuing Federal transportation funds and delivering transportation projects, particularly for rural, tribal, and smaller jurisdictions that technical assistance could help address? What information and resources would help disadvantaged communities and local organizations pursue Federal transportation funds?

2. What types of technical assistance would be most useful or not useful to organizations serving or located in disadvantaged communities to work with local and state transportation agencies advance transportation projects that improve mobility, safety, economic development, equity outcomes and environmental issues? Are there particular issues that current DOT technical assistance programs do a good job of addressing?

3. How can DOT better provide project sponsors with technical assistance in support of competitive grants and credit program opportunities including: innovative finance tools, credit worthiness evaluation, benefit cost analyses, civil rights requirements, public engagement, and risk assessments; and are there particular challenges disadvantaged communities face in these areas that need to be addressed?

4. What other information should DOT consider as it creates new technical assistance and capacity building programs through the Bureau, particularly to support disadvantaged communities in identifying, designing, developing, financing, and implementing projects that can be supported through IIJA funding opportunities and programs?

Approaches and Methods To Delivering and Evaluating Technical Assistance and Building Capacity

5. What technical assistance delivery models (Federal or non-Federal; direct grants or through service providers) have you found to be the most beneficial to building sustained capacity in disadvantaged communities, and to reducing the burden for disadvantaged communities to access these resources? What resources, technical assistance, and training have you found to be the most beneficial to building sustained capacity in disadvantaged communities? Further, given that DOT has provided technical assistance directly through its regional, field, division, and headquarters staff; through third party contractors and Centers; through grants directly to communities; and through a variety of mediums,² please provide feedback on which of these you have found, or believe to be, the most effective models and why.

² For reference, the DOT Navigator provides access to the suite of existing DOT technical assistance resources; available at https://www.transportation.gov/dot-navigator.

6. How could technical assistance programs be designed to support the involvement and capacity building of disadvantaged business enterprises (DBEs), local contractors, and community organizations who may also be important partners?

7. How can interagency coordination between Federal, state, and regional offices enhance the delivery and impact of technical assistance efforts?

8. How should DOT evaluate the effectiveness of its place-based technical assistance programs and what data should it collect to assess its impact?

Public Participation

How do I prepare and submit comments?

To ensure that your comments are filed correctly, please include the docket number DOT-OST-2022-0082 in your comments. Respondents are invited to provide information responding to any or all questions.

Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested.”

• Document(s) or information that the submitter would like withheld from the public docket should be marked “PROPIN.”

• Accompanied by an index listing the document(s) or information that the submitter would like the Department to withhold. The index should include information such as numbers used to identify the relevant document(s) or information, document title and description, and relevant page numbers and/or section numbers within a document.

• Submitted with a statement explaining the submitter's grounds for objecting to disclosing the information to the public.

DOT will treat such marked submissions as confidential under the FOIA and not include them in the public docket. If DOT receives a FOIA request for the information that the applicant has marked in accordance with this section, DOT will follow the procedures described in its FOIA regulations at 49 CFR 7.29. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a non-confidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, the Agency will also consider comments received after that date.

How can I read the comments submitted by other people?

You may read the comments received at the address given above under ADDRESSES. The hours of the docket are indicated above in the same location. You may also see the comments on the internet, identified by the docket number at the heading of this notice, at https://www.regulations.gov.

Please note, this RFI is a planning document and will serve as such. The RFI should not be construed as policy, a solicitation for applications, or an obligation on the part of the government.

Issued in Washington, DC, on August 2, 2022.
Christopher Coes,
Assistant Secretary for Transportation Policy, Department of Transportation.

[FR Doc. 2022-16860 Filed 8-4-22; 8:45 am]

BILLING CODE 4910-9P-P